SMALL BUSINESS ADMINISTRATION

[Declaration of Disaster #3413]

State of Missouri; (Amendment #1)

In accordance with information received from the Federal Emergency Management Agency, dated May 21 and May 22, 2002, the above numbered declaration is hereby amended to establish the incident period for this disaster as beginning on April 24, 2002 and continuing and to establish the incident type as severe storms, tornadoes and flooding. The declaration is also amended to include Crawford, Dent, Jefferson, St. Genevieve and Washington Counties in the State of Missouri as disaster areas due to damages caused by severe storms, tornadoes and flooding beginning on April 24, 2002 and continuing.

In addition, applications for economic injury loans from small businesses located in the following contiguous counties may be filed until the specified date at the previously designated location: Franklin, Gasconade and St. Louis Counties in Missouri; and Monroe County in Illinois. All other counties contiguous to the above-named primary counties have been previously declared.

All other information remains the same, i.e., the deadline for filing applications for physical damage is July 7, 2002, and for loans for economic injury the deadline is February 10, 2003.

(Catalog of Federal Domestic Assistance Program Nos. 59002 and 59008).
Dated: May 22, 2002.
Herbert L. Mitchell,
Associate Administrator for Disaster Assistance.

[FR Doc. 02-13988 Filed 6-3-02; 8:45 am]

BILLING CODE 8025-01-P